GENERAL SERVICES ADMINISTRATION

Office of Governmentwide Policy; Cancellation of an Optional Form by the Office of Personnel Management (OPM)

AGENCY: Office of Governmentwide Policy, GSA.

ACTION: Notice.

SUMMARY: The Office of Personnel Management (OPM) canceled OF 86A, Personal Data (Warning) (3½ x 1″ Label) since it is no longer needed.

FOR FURTHER INFORMATION CONTACT: Ms. Barbara Williams, General Services Administration, (202) 501-0581.

dates: Effective June 24, 2005.

Dated: June 16, 2005.
Barbara M. Williams,
Standard and Optional Forms Management Officer, General Services Administration.

[FR Doc. 05-12487 Filed 6-23-05; 8:45 am]

BILLING CODE 6820-34-M